DEPARTMENT OF THE INTERIOR

Bureau of Land Management

[NV-020-1990-EX]

Notice of Intent To Prepare an Environmental Impact Statement (EIS) and To Initiate the Public Scoping Process

AGENCY: Bureau of Land Management; Interior.

ACTION: Notice of intent.

SUMMARY: Pursuant to section 102(2) (c) of the National Environmental Policy Act (NEPA) of 1969, and the Federal Land Policy and Management Act (FLPMA) of 1976, notice is hereby given that the Winnemucca Field Office of the Bureau of Land Management (BLM) is initiating the preparation of an EIS to analyze a proposed silver and gold mine expansion, closure, and reclamation plan as proposed by Coeur Rochester, Inc. (CRI), in Plan of Operations Amendment 7 for the Coeur Rochester Mine, located in Pershing County, Nevada.

DATES: The public scoping period will commence with the publication of this notice and will end 30 days after publication. Public meetings will be announced through the local news media, and a BLM Web site at least 15 days prior to the event. Comments should be received on or before the end of the scoping period at the address listed below.

ADDRESSES: Written comments should be sent to the Winnemucca Field Office, Bureau of Land Management, 5100 East Winnemucca Blvd., Winnemucca, Nevada 89445, via fax at (775) 623-1503 or online at: http://www.nv.blm.gov/winnemucca. Comments, including names and addresses of respondents will be available for public review at the BLM WFO, during regular hours 7:30 a.m.-4:30 p.m., Monday-Friday, except holidays. Individual respondents may request confidentiality. If you wish to withhold your name or street address from public review or from disclosure under the Freedom of Information Act, you must state this prominently at the beginning of your written comment. Such requests will be honored to the extent of the law. All submissions from organizations and businesses, and from individuals identifying themselves as representatives or officials of organizations or businesses, will be available for public inspection in their entirety.

FOR FURTHER INFORMATION CONTACT: For further information and/or to have your name added to our mailing list, contact Lynn Harrison or Sharlet Berentsen, telephone (775) 623-1500.

SUPPLEMENTARY INFORMATION: Coeur Rochester, Inc., operates the Rochester Mine located on private and public lands in the south-central portion of the Humboldt Range in northwestern Nevada. CRI also operates a satellite deposit known as the Nevada Packard Mine located immediately southwest of the Rochester Mine. The original mine plan plus numerous modifications were analyzed in various environmental assessments. The proposal would include 103 acres of new disturbance and 1,817.4 acres of reclamation. Currently, the mine is approved to disturb approximately 1,704 acres. In November 2003, Coeur Rochester, Inc., submitted a Plan of Operation modification referred to as Amendment 7. As proposed in Amendment 7, the plan would disturb an additional 103 acres and would include expansion and deepening of the existing Rochester Open Pit, a heap leach pad facility 30-feet height increase, alteration of existing haul roads and a new heap leach pad facility. Amendment 7 also included proposed closure and reclamation activities, including potential for a pit lake, heap leach pad closure, waste rock facility closure, re-evaluation of an existing waste rock management plan, and final closure descriptions for all other facilities.

Dated: January 11, 2005.
Vicki L. Wood,
Acting Field Manager.

[FR Doc. 05-3630 Filed 2-24-05; 8:45 am]

BILLING CODE 4310-HC-P